DEPARTMENT OF THE INTERIOR

Fish and Wildlife Service

[FWS-R4-R-2015-N013]; [FXRS12650400000S3-123-FF04R02000]

Sam D. Hamilton Noxubee National Wildlife Refuge, Mississippi; Final Comprehensive Conservation Plan and Finding of No Significant Impact for the Environmental Assessment and Associated Step-Down Plans

AGENCY: Fish and Wildlife Service, Interior.

ACTION: Notice of availability.

SUMMARY: We, the U.S. Fish and Wildlife Service (Service), announce the availability of the final Comprehensive Conservation Plan (CCP) and Finding of No Significant Impact (FONSI) for the environmental assessment and associated step-down plans, including the Habitat Management Plan, Integrated Pest Management Plan, and the Visitor Services Plan, for Sam D. Hamilton Noxubee National Wildlife Refuge in Oktibbeha, Noxubee, and Winston Counties, Mississippi. In the final CCP, we describe how we will manage the Refuge for the next 15 years.

ADDRESSES: You may obtain a copy of the CCP and FONSI by writing to: Sam D. Hamilton Noxubee National Wildlife Refuge, 13723 Bluff Lake Rd., Brooksville, MS 39739. Alternatively, you may download the documents from our Internet Site: http://southeast.fws.gov/planning under “Completed CCP Documents.”

FOR FURTHER INFORMATION CONTACT: Steve Reagan, Project Leader, 662-323-5548, steve_reagan@fws.gov

SUPPLEMENTARY INFORMATION:

Introduction

With this notice, we finalize the CCP process for Sam D. Hamilton Noxubee National Wildlife Refuge. We started the process through a notice in the Federal Register on Tuesday, January 15, 2013 (78 FR 3024). For more about the process, see that notice.

Sam D. Hamilton Noxubee National Wildlife Refuge (Refuge) is located within three counties (Noxubee, Oktibbeha, and Winston) in east-central Mississippi, and is approximately 17 miles south-southwest of Starkville and approximately 120 miles north-northeast of Jackson, the capital of Mississippi. The Refuge is currently 48,219 acres. The primary establishing legislation for the Refuge is Executive Order 8444, dated June 14, 1940. Established as Noxubee NWR in 1940, the Refuge was subsequently renamed Sam D. Hamilton Noxubee NWR by Public Law 112-279 on February 14, 2012.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft CCP/EA available for a 60-day public review and comment period via a Federal Register notice on Thursday August 28, 2014 (79 FR 51356). We provided four hard copies of the Draft CCP/EA to those individuals or organizations requesting a copy. The draft CCP/EA was also accessed via the internet. A total of 37 individuals, organizations, and government agencies provided comments on the Draft CCP/EA by U.S. Mail or email. Comments were received from private citizens; The Humane Society of the United States; Wild South; Mississippi State University; Safari Club International; Mississippi Entomological Museum; Center for Biological Diversity; Florida Gulf Coast University; Wolf River Conservancy; Oktibbeha Audubon Society; The Nature Conservancy; Mississippi Department of Wildlife Fisheries, and Parks; Mississippi Department of Transportation; Mississippi Department of Archives and History; and Greenfire Law.

CCP Alternatives, Including Our Preferred Alternative

We developed three alternatives for managing the Refuge (Alternatives A, B, and C), with Alternative C selected for implementation. This alternative will manage refuge resources to optimize native wildlife populations and habitats under a balanced and integrated approach, not only for federally listed species (red-cockaded woodpeckers (RCW)) and migratory birds, but also for other native species such as white-tailed deer, wild turkey, Northern bobwhite, paddlefish, and forest-breeding birds.

This alternative also provides opportunities for the six priority public uses (i.e., hunting, fishing, wildlife observation, wildlife photography, and interpretation and environmental education) and other wildlife-dependent activities found to be appropriate and compatible with the purpose for which the Refuge was established.

Wildlife and Habitat

Under this alternative, the Refuge would favor management that restores historic forest conditions while achieving Refuge purposes.

Waterfowl: This alternative would provide approximately 1 million Duck Energy Days (DEDs) over a 110-day period yearly, through the possible combination of managed moist soil units, planted agricultural crops that can be flooded, aquatic vegetation and invertebrates within Refuge lakes, and seasonally flooded green-tree reservoirs which provide mast crops and invertebrates. Wood duck breeding opportunities would be enhanced using wood duck nest boxes, but greater emphasis would be placed on protecting trees with natural cavities throughout the bottomland forests. Trees found with existing cavities and those having unique wildlife values would be protected from timber harvest.

Active manipulation of habitats and populations would occur as necessary to maintain biological integrity, diversity, and environmental health. Silvicultural treatments within bottomland hardwood habitats would receive low priority, but may be used to promote recruitment of red oak species within the overstory of those flooded forested habitats used by waterfowl. The Refuge would attempt to increase brood survival of waterfowl by managing shallow water aquatic habitats to produce and sustain protective shrub-scrub cover with fringe area of the Refuge's lakes. Manipulation of water level would be the primary tool used to produce the desired shrub-scrub cover.

The Refuge would participate in wood duck banding programs and try to obtain Refuge quotas as assigned by the U.S. Fish and Wildlife Service's national Migratory Bird program, and limit human access to key areas used by waterfowl to reduce disturbance during critical life cycle stages.

Forest Breeding Birds: Forest-breeding bird populations would be enhanced through improved nesting, brooding, and foraging opportunities by application of active habitat manipulation techniques within bottomland hardwood forested habitats and streamside management zones. Even and uneven aged silviculture, including selective thinning, patch cuts, group tree selections, shelterwoods, irregular shelterwoods, clearcuts, timber stand improvements, wildlife stand improvements, chemical treatments, and other methods, could be used to ensure hardwood species diversity, red oak recruitment into the overstory, and forest structure for the benefit of a diversity of wildlife.

Red-cockaded woodpecker (RCW): The number of RCW clusters would be based on continuous pine habitat as defined by historic conditions and the optimal partition size of 300 acres based on a loblolly forest stand surviving to at least 100 years of age. Based on a spatial analysis accounting for locations and size of pine stands and the current locations of active RCW groups, the Refuge is expected to be able to manage for 49 partitions. All RCW partitions would be managed according to the RCW Recovery Plan and, where sufficient habitat exists, to provide long-term good-quality foraging habitat.

Habitat manipulations used to benefit RCWs could include silvicultural practices (e.g., active forest management, including but not limited to manual or mechanized pre-commercial thinning, commercial biomass thinning, mulching, firewood cutting, timber stand improvements, herbicide, irregular shelterwood, shelterwood, seedtree, patch cuts, afforestation, reforestation, and free thinning), prescribed fire, raking, mowing, creation of new artificial cavities, maintenance of suitable cavities, midstory reduction (chemical and/or mechanical control), integrated pest management, use of restrictor plates on cavities, snake exclusion devices, and kleptoparasite control.

In order to sustain forest resources for future RCW habitat, harvesting of existing mature forests as part of regeneration efforts within present and future partitions may occur. No additional, non-historic pine habitats outside currently active partitions would be maintained or converted for support of the RCW. Refuge staff and possibly contractors would continue to scientifically monitor RCWs through observation and nest and fledge checks.

Monitoring: Additional quantitative monitoring of a broad suite of wildlife and their habitats will be sought through the participation of nongovernmental organizations (NGOs), universities, and volunteers in the Refuge System's Inventory and Monitoring program for development of standardized survey methods, cataloging and analyzing Refuge information.

Invasive and Exotic Species: Efforts would be made to prevent the establishment of exotic invasive species and pest species.

Bluff Lake: Deep water habitats within Bluff Lake would be created through dirt excavation to ensure consistency in recreational fisheries resources (i.e., crappie, bass, and sunfish). Excavated soil from the creation of the deep water habitat would be used to create islands within the lake to serve as bird rookery sites. Other existing water control structures on Bluff Lake and in areas upstream of the lake may also be modified or removed to allow fish passage. Paddlefish and Gulf Coast Walleye could benefit from the restoration. Additional ephemeral pools for amphibians would be artificially created throughout the Refuge through excavation in areas where excess water impedes road maintenance or threatens sedimentation of streams.

Morgan Hill Prairie: The Morgan Hill Prairie Demonstration Area would remain but be reduced by more than 50 percent in size, and the remaining area would be restored into habitats similar to that indicated by historic conditions.

Fields: Existing old fields that would not be a direct benefit to federally protected species or waterfowl would continue to be managed as old field sites for the benefit of native grassland species. Old fields that would be a direct benefit to federally protected species or waterfowl would be restored to historical species compositions through natural regeneration or the manual planting of trees. No new field sites would be created.

Forest Management: Active forest management, including silvicultural treatments, prescribed fire, and chemical and/or mechanical midstory reduction, would occur throughout the Refuge's habitats to achieve desired historic forest conditions, greater habitat diversity and greater forest structure to benefit RCW, forest interior birds, and a wider range of native wildlife. Upland forests would be managed for historic conditions and, when applicable, management would emphasize providing the needed habitat for federally listed species. If needed to support federally listed species, active forest management would occur using a variety of techniques, including timber harvest, prescribed fire, and chemical and/or mechanical midstory reduction.

Resource Protection

Cultural Resources: To protect cultural resources, completing a comprehensive, Refuge-wide survey of archeological sites would be the goal as well as individual cultural resource surveys as needed for specific projects or sites. Partnerships would be developed with other agencies, institutions, Tribes, and other cultural groups, to seek ideas and possibly share staff positions. The Refuge would improve management and interpretation of the Refuge's cultural resources.

Land Acquisition: Conservation partnerships would be developed with neighboring landowners to have the greatest impact on maintaining or restoring the biological integrity of the local community. Fee title acquisition from willing sellers will focus on lands within the existing approved acquisition boundary that will most efficiently assist the Refuge in meeting the purposes for which it was established and the mission of the Service.

Research Natural Areas (RNA): Under this alternative the two RNAs would no longer remain under this designation and would be managed as part of the larger surrounding units of similar type and managed for their historic conditions.

Staff: A second wildlife law enforcement officer would be established, in combination with possible collateral duty officer positions to assist in protecting natural and cultural resources, along with public safety.

Visitor Services

The current level of visitor services programs would be expanded for the general public, and attempts made to provide more access for users with disabilities and youth. This alternative would establish a “Connecting People with Nature” area to consolidate activities and users requiring greater support to enjoy wildlife dependent activities.

All existing wildlife-dependent uses and the supporting facilities would be maintained and, if resources are available, enhanced through possible increase and better maintenance in overlooks, boardwalks, and trails. An effort would be made to increase visitor safety and enjoyment through establishment of parking areas, improved management of vehicle flow, creation of paved walking and biking trails, and roadside bike lanes along Bluff Lake and Loakfoma Roads. Refuge regulatory and informational signs would receive priority.

Public activities found compatible include bicycle, boating, and picnicking in association with wildlife-dependent activities, geocaching for environmental education, recreational fishing and hunting, wildlife observation, wildlife photography, and environmental education and interpretation.

Hunting: the Service would develop a weeklong large game (turkey and deer) hunt program to provide increased opportunities for disabled hunters in exchange for a one-week reduction in the general gun deer and turkey seasons. Deer hunting opportunities overall would be increased. The Service would work with the Mississippi Department of Wildlife, Fisheries and Parks to develop family hunting and fishing opportunities.

Fishing: Fishing opportunities would be expanded to include year-round designated bank fishing areas on Bluff Lake's south shore.

Fees: Alternative funding mechanisms, such as a general user fee under the Fee Program, would be used to spread costs of programs across all users. This alternative would continue participation in the existing Fee Program. Changes within the program would include establishment of a general access pass for all users to assist in the maintenance and development of public use programs and facilities (e.g., Daily Pass, Weekly Pass, or Annual Pass). Current Federal duck stamps and other congressionally authorized entrance fee passes would be accepted as a Refuge access pass. This additional fee would allow the Refuge to fully support and improve the Refuge's public use programs to better meet public interest. Without additional fees, the current level of public use would not be sustainable based on base funding alone.

Partnerships: Partnerships to conduct environmental education and off-site activities and increase volunteer involvement in all Refuge programs would be established. More effort would be placed toward developing cooperative programs sponsored through the Refuge's Friends group.

Staff: The current staff of 9 employees would be reorganized, with a goal of reaching 13 staff; this is still less than the optimal staff level of 18 as recommended within the 2008 Final Report for the Staffing Model for Field Stations.

Authority: This notice is published under the authority of the National Wildlife Refuge System Improvement Act of 1997 (16 U.S.C. 668dd et seq.).

Dated: February 27, 2015.
Mike Oetker,
Acting Regional Director.

[FR Doc. 2015-07356 Filed 3-30-15; 8:45 am]

BILLING CODE 4310-55-P